DEPARTMENT OF DEFENSE

GENERAL SERVICES ADMINISTRATION

NATIONAL AERONAUTICS AND SPACE ADMINISTRATION

48 CFR Chapter 1

[Docket No. FAR 2015-0051, Sequence No. 4]

Federal Acquisition Regulation; Federal Acquisition Circular 2005-84; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-84. A companion document, the Small Entity Compliance Guide (SECG), follows this FAC. The FAC, including the SECG, is available via the Internet at http://www.regulations.gov.

DATES: For effective dates see the separate documents, which follow.

FOR FURTHER INFORMATION CONTACT: The analyst whose name appears in the table below in relation to the FAR case. Please cite FAC 2005-84 and the specific FAR case number. For information pertaining to status or publication schedules, contact the Regulatory Secretariat at 202-501-4755.

Rules Listed in FAC 2005-84
Item | Subject | FAR Case | Analyst
I | EPEAT Items | 2013-016 | Gray
II | Technical Amendments

SUPPLEMENTARY INFORMATION: Summaries for each FAR rule follow. For the actual revisions and/or amendments made by these rules, refer to the specific item numbers and subjects set forth in the documents following these item summaries. FAC 2005-84 amends the FAR as follows:

Item I— EPEAT Items (FAR Case 2013-016)

This rule finalizes an interim rule that implemented changes in the Electronic Product Environmental Assessment Tool (EPEAT®)-registry requirements at FAR subpart 23.7. The FAR requirement to procure EPEAT®-registered products was revised to incorporate the revised standard applicable to personal computer products and to add the standards for imaging equipment and televisions. The final rule also amends the procedures relating to the exceptions to the requirement to procure EPEAT®-registered products. There is no significant economic impact on small businesses.

Item II—Technical Amendments

Editorial changes are made at FAR 4.605(e), 31.205-6(o)(2)(iii)(A), 35.017-7 Introductory text, 52.213-4(b)(1)(ix) and 52.219-1 Alternate I (c)(9).

Dated: August 26, 2015.
William Clark,
Director, Office of Government-wide Acquisition Policy, Office of Acquisition Policy, Office of Government-wide Policy.

Federal Acquisition Circular (FAC) 2005-84 is issued under the authority of the Secretary of Defense, the Administrator of General Services, and the Administrator for the National Aeronautics and Space Administration.

Unless otherwise specified, all Federal Acquisition Regulation (FAR) and other directive material contained in FAC 2005-84 is effective September 3, 2015 except for item I which is effective October 5, 2015.

Dated: August 26, 2015.

Claire M. Grady,

Director, Defense Procurement and Acquisition Policy.

Dated: August 26, 2015.

William Clark,

Acting Senior Procurement Executive/Deputy CAO, Office of Acquisition Policy, U.S. General Services Administration.

Dated: August 19, 2015.

William P. McNally,

Assistant Administrator, Office of Procurement, National Aeronautics and Space Administration.

[FR Doc. 2015-21740 Filed 9-2-15; 8:45 am]

BILLING CODE 6820-EP-P